DEPARTMENT OF COMMERCE

National Oceanic and Atmospheric Administration

RIN 0648-XA622

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on August 30-31, 2011. The Council will convene on Tuesday, August 30th, from 9 a.m. to 5 p.m., and the Administrative Committee will meet from 5:15 p.m. to 6 p.m. The Council will reconvene on Wednesday, August 31st, 2011, from 9 a.m. to 5 p.m.

ADDRESSES: The meetings will be held at La Concha—a Renaissance Resort, located at 1077 Ashford Avenue, Condado, San Juan, Puerto Rico.

FOR FURTHER INFORMATION CONTACT: Caribbean Fishery Management Council, 268 Muñoz Rivera Avenue, Suite 1108, San Juan, Puerto Rico 00918-1920; telephone: (787) 766-5926.

SUPPLEMENTARY INFORMATION: The Council will hold its 140th regular Council Meeting to discuss the items contained in the following agenda:

August 30, 2011—9 a.m. to 5 p.m.

• Call to Order;

• Adoption of Agenda;

• Consideration of the 138th and 139th Council Meeting Verbatim Transcriptions;

• Executive Director's Report;

• 2011 Comprehensive Annual Catch Limit (ACL) Amendment for the U.S. Caribbean Public Hearings Report and Final Action.

• USVI Traps Reduction Project Report;

• Public Comment Period—(5) Five-minute Presentations.

August 30, 2011—5:15 p.m.—6 p.m.

• Administrative Committee Meeting:

—AP/SSC Membership;

—Budget Update FY 2011;

—SOPPs Update;

—Other Business.

August 31, 2011—9 a.m.—5 p.m.

• SEDAR-St. Croix Meeting Report;

• Enforcement Reports:

—Puerto Rico—DNER;

—U.S. Virgin Islands—DPNR;

—NOAA/NMFS;

—U.S. Coast Guard.

• Administrative Committee Recommendations;

• Meetings Attended by Council Members and Staff;

• Public Comment Period (5-Minute Presentations);

• Other Business;

• Next Council Meeting.

The established times for addressing items on the agenda may be adjusted as necessary to accommodate the timely completion of discussion relevant to the agenda items. To further accommodate discussion and completion of all items on the agenda, the meeting may be extended from, or completed prior to the date established in this notice.

The meetings are open to the public, and will be conducted in English. However, simultaneous interpretation (English-Spanish) will be provided. Fishers and other interested persons are invited to attend and participate with oral or written statements regarding agenda issues.

Although non-emergency issues not contained in this agenda may come before this group for discussion, those issues may not be subjects for formal action during these meetings. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolón, Executive Director, Caribbean Fishery Management Council, 268 Muñoz Rivera Avenue, Suite 1108, San Juan, Puerto Rico 00918-1920, telephone (787) 766-5926, at least 5 days prior to the meeting date.

Dated: August 5, 2011.
William D. Chappell,
Acting Director, Office of Sustainable Fisheries, National Marine Fisheries Service.

[FR Doc. 2011-20332 Filed 8-9-11; 8:45 am]

BILLING CODE 3510-22-P